DEPARTMENT OF EDUCATION

Advisory Committee on Student Financial Assistance; Meeting

AGENCY: Advisory Committee on Student Financial Assistance, Education.

ACTION: Notice of upcoming meeting.

SUMMARY: This notice sets forth the schedule and proposed agenda of a forthcoming meeting of the Advisory Committee on Student Financial Assistance. Individuals who will need accommodations for a disability in order to attend the meeting (i.e,. interpreting services, assistive listening devices, and/or materials in alternative format) should notify Ms. Hope M. Gray at 202-219-2099 or via e-mail at hope.gray@ed.gov no later than Thursday, February 28. We will attempt to meet requests after this date, but cannot guarantee availability of the requested accommodation. The meeting site is accessible to individuals with liabilities. This notice also describes the functions of the Committee. Notice of this meeting is required under Section 10(a)(2) of the Federal Advisory Committee Act. This document is intended to notify the general public.

DATES AND TIMES: Thursday, March 7, 2002, beginning at 9 a.m. and ending at approximately 5 p.m.; and Friday, March 8, 2002, beginning at 8:30 a.m. and ending at approximately 12 noon.

ADDRESSES: The Universit7y of Texas at Brownsville in the Science, Engineering, and Technology Building, 80 Fort Brown, Brownville, Texas 78520.

FOR FURTHER INFORMATION CONTACT: Dr. Brian K. Fitzgerald, Staff Director, Advisory Committee on Student Financial Assistance, Capitol Place, 80 F Street, NW., Suite 413, Washington, DC 20202-7582 (202) 219-2099.

SUPPLEMENTARY INFORMATION: The Advisory Committee on Student Financial Assistance is established under Section 491 of the Higher Education Act of 1965 as amended by Public Law 100-50 (20 U.S.C. 1098). The Advisory Committee serves as an independent source of advice and counsel to the Congress and the Secretary of Education on student financial aid policy. Since its inception, the Committee has been charged with providing technical expertise with regard to systems of need analysis and application forms, making recommendations that result in the maintenance of access to postsecondary education for low- and middle-income students; conducting a study of institutional lending in the Stafford Student Loan Program; assisting with activities related to the 1992 reauthorization of the Higher Education Act of 1965; conducting a third-year evaluation of the Ford Federal Direct Loan Program (FDLP) under the Omnibus Budget Reconciliation Act (OBRA) of 1993; and assisting Congress with the 1998 reauthorization of the Higher Education Act.

The congressional mandate requires the Advisory Committee to conduct objective, nonpartisan, and independent analyses on important aspects of the student assistance programs under Title IV of the Higher Education Act. The Committee traditionally approaches its work from a set of fundamental goals: promoting program integrity, eliminating or avoiding program complexity, integrating delivery across the Title IV programs, and minimizing burden on students and institutions.

Reauthorization of the Higher Education Act has provided the Advisory Committee with a significantly expanded agenda in six major areas, such as, Performance-based Organization (PBO); Modernization; Technology; Simplification of Law and Regulation; Distance Education; and Early Information and Needs Assessment. In each of these areas, Congress has asked the Committee to: monitor progress toward implementing the Amendments of 1998; conduct independent, objective assessments; and make recommendations for improvement to the Congress and the Secretary. Each of these responsibilities flows logically from and effectively implements one or more of the Committee's original statutory functions and purposes.

The proposed agenda includes: (a) Round table discussion sessions regarding the findings of Access Denied and related research, in particular, the implications of unmet need on low-income students, (b) the role of academic preparation in access; and (c) the implications of the data and findings for federal and state policy. In addition, the Committee will discuss its plans for the remainder of fiscal year 2002 and address other Committee business. Space is limited and you are encouraged to register early if you plan to attend. You may register through Internet at ADV.COMSFA@ed.gov or Tracy.Deanna.Jones@ed.gov. Please include your name, title, affiliation, complete address (including Internet and e-mail—if available), and telephone and fax numbers. If you are unable to register electronically, you may mail or fax your registration information to the Advisory Committee staff office at (202) 219-3032. Also, you may contact the Advisory Committee staff at (202) 219-2099. The registration deadline is Tuesday, February 26, 2002.

The Advisory Committee will meet in Brownsville, Texas on Thursday, March 7, 2002, from 9 a.m. until approximately 5 p.m., and on Friday, March 8, from 8:30 a.m. until approximately 12 noon.

Records are kept of all Committee proceedings, and are available for public inspection at the Office of the Advisory Committee on Student Financial Assistance, Capitol Place, 80 F Street, NW., Suite 413, Washington, DC from the hours of 9 a.m. to 5:30 p.m., weekdays, except Federal holidays.

Dated: January 30, 2002.
Brian K. Fitzgerald,
Staff Director, Advisory Committee on Student Financial Assistance.

[FR Doc. 02-2740 Filed 2-4-02; 8:45 am]

BILLING CODE 4000-01-M